DEPARTMENT OF COMMERCE

National Oceanic and Atmospheric Administration

50 CFR Part 648

[Docket No. 120109034-2171-01]

RIN 0648-XC153

Fisheries of the Northeastern United States; Northeast Multispecies Fishery; White Hake Trimester Total Allowable Catch Area Closure for the Common Pool Fishery

AGENCY: National Marine Fisheries Service (NMFS), National Oceanic and Atmospheric Administration (NOAA), Commerce.

ACTION: Temporary rule; closure.

SUMMARY: NMFS is closing the White Hake Trimester Total Allowable Catch (TAC) Area to all common pool vessels fishing with trawl gear, sink gillnet gear, or longline/hook gear for the remainder of Trimester 1, through August 31, 2012. This action is necessary to prevent the common pool fishery from exceeding its Trimester 1 TAC or its annual catch limit for white hake. This rule is expected to slow the catch rate of white hake in the common pool fishery for the remainder of Trimester 1.

DATES: Effective August 15, 2012, through 2400 hours, August 31, 2012.

FOR FURTHER INFORMATION CONTACT: Sarah Heil, Fishery Policy Analyst, 978-281-9257, Fax 978-281-9135.

SUPPLEMENTARY INFORMATION: Regulations governing the NE multispecies fishery are found at 50 CFR part 648, subpart F. Beginning in fishing year (FY) 2012, the common pool's annual catch limit for each stock is apportioned into trimester total allowable catches (TACs). The regulations at § 648.82(n) require the Regional Administrator to close the Trimester TAC Area for a stock when available information supports a determination that 90 percent of the Trimester TAC is projected to be caught. The Trimester TAC Area for a stock will close to all common pool vessels fishing with gear capable of catching that stock for the remainder of the trimester. Any overages of a trimester TAC will be deducted from Trimester 3, and any overages of the common pool's annual catch limit will be deducted from the common pool's catch limit the following fishing year. Any uncaught portion of the Trimester 1 and Trimester 2 TAC will be carried over into the next trimester. Any uncaught portion of the common pool's annual catch limit may not be carried over into the following fishing year.

The FY 2012 common pool catch limit for white hake is 26 mt (57,320 lb). The Trimester 1 (May 1 through August 31) TAC is 10 mt (22,046 lb). Based on the best available data which includes vessel trip reports (VTRs), dealer reported landings, and vessel monitoring system (VMS) information, NMFS projected that 90 percent of the Trimester 1 TAC for white hake had been harvested on August 4, 2012. Therefore, Effective August 15, 2012, the White Hake Trimester TAC Area is closed for the remainder of Trimester 1, through August 31, 2012, to all common pool vessels fishing with trawl gear, sink gillnet gear, and longline/hook gear. The White Hake Trimester TAC Area will reopen to common pool vessels fishing with trawl, sink gillnet, and longline/hook gear at the beginning of Trimester 2, at 0001 hours, September 1, 2012.

Classification

This action is required by 50 CFR part 648, and is exempt from review under Executive Order 12866.

The Assistant Administrator for Fisheries, NOAA (AA), finds good cause pursuant to 5 U.S.C. 553(b)(B) to waive prior notice and the opportunity for public comment because it would be impracticable and contrary to the public interest. This action closes the White Hake Trimester TAC Area for common pool vessels fishing with trawl gear, sink gillnet gear, and longling/hook gear through August 31, 2012. The regulations at § 648.82 require this action to ensure that the common pool fishery does not exceed its catch limits for white hake in fishing year 2012. The catch data indicating that 90 percent of the Trimester 1 TAC for white hake has been caught only recently became available. If implementation of this closure is delayed to solicit prior public comment, the white hake Trimester 1 TAC will be exceeded, thereby undermining the conservation objectives of the Fishery Management Plan. Any overage of the Trimester 1 TAC must be deducted from the Trimester 3 TAC, and any overage of the total catch limit in FY 2012 must be deducted from the FY 2013 catch limit. This would have adverse economic consequences on common pool vessels. The AA further finds, pursuant to 5 U.S.C. 553(d)(3), good cause to waive the 30-day delayed effectiveness period for the reasons stated above.

Authority: 16 U.S.C. 1801 et seq.

Dated: August 10, 2012.
Lindsay Fullenkamp,
Acting Deputy Director, Office of Sustainable Fisheries, National Marine Fisheries Service.

[FR Doc. 2012-20054 Filed 8-10-12; 4:15 pm]

BILLING CODE 3510-22-P